DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 23, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal Plant and Health Inspection Service

Title: African Swine Fever; Importation of Live Dogs for Resale from Regions Where ASF. Exists or Is Reasonably Believed to Exist

OMB Control Number: 0579-0478.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if required to prevent the spread of any livestock or poultry pest or disease. The AHPA is contained in title X, subtitle E, sections 10401-18 of Public Law 107-171, May 13, 2002, the Farm Security and Rural Investment Act of 2002; 7 U.S.C. 8301, et. seq. The Animal and Plant Health Inspection Service (APHIS) Veterinary Services (VS) business unit is responsible for preventing foreign animal disease outbreaks in the United States, and monitoring, controlling, and eliminating a disease outbreak should one occur.

APHIS has determined that dogs imported from African swine fever (ASF)-affected countries for resale purposes, along with their bedding, represent a possible pathway for the introduction of disease. To block this pathway, APHIS has issued a Federal Order imposing several restrictions on the importation of dogs for resale from regions where ASF exists or is reasonably believed to exist. Importers will need to verify that they have met these restrictions by completing and submitting a Dog Import Record form, ASF VSDIR 1.

Need and Use of the Information: This form helps APHIS determine where dogs are coming from (to assess the risk of whether they could have been exposed to ASF), where they are going, and, most importantly, measures taken to ensure neither the dogs nor anything that came with them can spread ASF. Both parts of the VS Dog Import Record must be completed and submitted for each shipment of imported dog or dogs intended for resale.

The form also contains space for a detailed list of bathing confirmation for the individual dog or dogs imported, including the dogs' microchip numbers; name; age; gender; breed, color and markings; and the date of bathing. Each person bathing the dog or dogs must sign the form, as well as the importer.

Description of Respondents: Businesses or other for-profit.

Number of Respondents: 200.

Frequency of Responses: Reporting: On occasion.

Total Burden Hours: 900.

Dated: November 18, 2021.
Ruth Brown,
Departmental Information Collection Clearance Officer.

[FR Doc. 2021-25529 Filed 11-22-21; 8:45 am]

BILLING CODE 3410-34-P